DEPARTMENT OF DEFENSE

Department of the Navy

Extension of Public Comment Period for the Draft Environmental Impact Statement for the Trident Support Facilities Explosives Handling Wharf (EHW-2), Naval Base Kitsap Bangor, Silverdale, Kitsap County, WA

AGENCY: Department of the Navy, DoD.

ACTION: Notice.

SUMMARY: A notice of availability was published in the Federal Register by the U.S. Environmental Protection Agency on March 18, 2011 (76 FR 14968) for the Department of the Navy's (Navy) Draft Environmental Impact Statement (EIS) for constructing and operating the TRIDENT Support Facilities Explosives Handling Wharf (EHW-2) at Naval Base Kitsap Bangor, Silverdale, WA. The public review period ends on May 2, 2011. This notice announces a fifteen-day extension of the public comment period until May 17, 2011.

FOR FURTHER INFORMATION CONTACT: Ms. Christine Stevenson, EHW-2 EIS Project Manager, 1101 Tautog Circle, Silverdale, Washington 98315-1101; or http://ehw.nbkeis.com/.

SUPPLEMENTARY INFORMATION: This notice announces a fifteen-day extension of the public comment period until May 17, 2011.

Comments may be submitted in writing to Naval Facilities Engineering Command Northwest, Attention: Ms. Christine Stevenson, EHW-2 EIS Project Manager, 1101 Tautog Circle, Silverdale, Washington 98315-1101. In addition, comments may be submitted online at http://ehw.nbkeis.com/ during the comment period. All written comments must be postmarked by May 17, 2011, to ensure they become part of the official record. All comments will be addressed in the Final EIS.

Copies of the Draft EIS are available for public review at the following libraries: Jefferson County Rural Library, 620 Cedar Avenue, Port Hadlock, WA 98339; Port Townsend Public Library, 1220 Lawrence Street, Port Townsend, WA 98368; Poulsbo Library, 700 Northeast Lincoln Road, Poulsbo, WA 98370; Silverdale Library, 3450 NW Carlton Street, Silverdale, WA 98383; Sylvan Way Library, 1301 Sylvan Way, Bremerton, WA 98310; and Seattle Central Library, 1000 Fourth Avenue, Seattle, WA 98104. The Trident Support Facilities Explosives Handling Wharf (EHW-2) Draft EIS is also available for electronic public viewing at: http://ehw.nbkeis.com/.

Dated: April 28, 2011.
L.R. Almand,
Office of the Judge Advocate General, U.S. Navy, Alternate Federal Register Liaison Officer.

[FR Doc. 2011-10708 Filed 5-2-11; 8:45 am]

BILLING CODE 3810-FF-P